POSTAL SERVICE

39 CFR Part 501

Authorization To Manufacture and Distribute Postage Meters

AGENCY: Postal Service.

ACTION: Proposed rule.

SUMMARY: This proposed rule clarifies and strengthens requirements for postage meter manufacturers to control what a postage meter allows the licensed user to print.

DATES: The Postal Service must receive your comments on or before December 26, 2002.

ADDRESSES: Mail or deliver written comments to the manager, Postage Technology Management, 1735 N. Lynn Street, Room 5011, Arlington, VA 22209-6370. You can view and copy all written comments at the same address between 9 a.m. and 4 p.m., Monday through Friday.

FOR FURTHER INFORMATION CONTACT: Wayne Wilkerson, manager of Postage Technology Management, at 703-292-3782, or by fax at 703-292-4073.

SUPPLEMENTARY INFORMATION: Some postage meters and postage evidencing systems can print written or graphic matter in addition to a U.S. Postal Service-approved indicium-evidencing payment of United States postage. Written or graphic matter, other than Postal Service-approved indicia, printed by a meter or postage evidencing system, could convey a false impression that the Postal Service had approved the content of both the indicia and any additional printed matter. For this reason, the Domestic Mail Manual provides in P030.9.8 that such “printed matter may not be obscene, defamatory of any person or group, or deceptive, and it must not advocate any unlawful action.” When 39 CFR 501.23(d) was adopted, meter stamps and other printed matter were printed with printing plates engraved for customers by the approved postage meter manufacturers. Accordingly, the responsibility for complying with the regulation clearly rested upon the approved meter manufacturer, and failure to comply with a postal meter regulation could result, under 39 CFR 501.5, in the suspension or revocation of a manufacturer's approval to distribute postage meters. Manufacturers are now distributing Postal Service-approved postage meters and postage evidencing systems that employ digital printing technology. The proposed rule seeks to make clear that the approved manufacturers continue to be responsible for controlling the printing capabilities of their products in order to meet the requirements of the Domestic Mail Manual.

We will review any public comments and will issue a final rule amending the regulations. When this proposed rule is issued as a final rule, we will revise the Domestic Mail Manual to notify users of meters and postage evidencing systems that the meter manufacturers and providers are responsible for controlling what the user is allowed to print using the postage meter or postage evidencing system.

Notice and Comment

Although exempt from the notice and comment requirements of the Administrative Procedure Act (5 U.S.C. 553(b), (c)) regarding proposed rulemaking by 39 U.S.C. 410(a), the Postal Service invites public comments on the following proposed amendments to the Code of Federal Regulations.

List of Subjects in 39 CFR Part 501

Administrative practice and procedure, Postal Service.

For the reasons set out in this document, the Postal Service is proposing to amend 39 CFR part 501 as follows:

PART 501—AUTHORIZATION TO MANUFACTURE AND DISTRIBUTE POSTAGE METERS

1. The authority citation for part 501 continues to read as follows:

Authority: 5 U.S.C. 552(a); 39 U.S.C. 101, 401, 403, 404, 410, 2601, 2605; Inspector General Act of 1978, as amended (Public Law 95-452, as amended); 5 U.S.C. App. 3.

2. § 501.23(d) is revised to read as follows:

§ 501.23 Distribution controls.

Each authorized postage meter manufacturer must do the following:

* * * * *

(d) Control all print capabilities of the postage meter or postage evidencing system, including printing of indicia and all other matter printed by the system, by supplying only meter slogans, ad plates, or other print capabilities that meet all Postal Service requirements, including those for suitable quality and content.

Stanley F. Mires,
Chief Counsel, Legislative.

[FR Doc. 02-29939 Filed 11-25-02; 8:45 am]

BILLING CODE 7710-12-P